DEPARTMENT OF AGRICULTURE

Forest Service

Pecos Wild and Scenic River, Santa Fe National Forest, San Miguel and Mora Counties, New Mexico; Boundary Establishment

AGENCY: Forest Service, USDA.

ACTION: Notice of availability.

SUMMARY: In accordance with 16 USC 1274, the USDA Forest Service is transmitting the final boundary of the Pecos Wild and Scenic River to the Senate and House of Representatives.

FOR FURTHER INFORMATION CONTACT: Information may be obtained by contacting Dan Crittenden, District Ranger, Pecos/Las Vegas Ranger District, P.O. Drawer 429, Pecos, NM 87552-0429, 505-757-6121.

SUPPLEMENTARY INFORMATION: The detailed legal description and map of the Pecos Wild and Scenic River boundary are available for public inspection in the following Forest Service offices: USDA Forest Service Auditors Building, 201 14th St. SW at Independence Ave. SW, Washington, DC; USDA-FS Southwestern Regional Office, 517 Gold Ave SW, Albuquerque, NM; USDA-FS Santa Fe National Forest, 1474 Rodeo Rd., Santa Fe, NM; USDA-FS Pecos Ranger Station, Pecos, NM.

The Wild and Scenic Rivers Act, Public Law 90-542, as amended by Public Law 101-306 on June 6, 1990 designated the 20.5 mile segment of the Pecos River, from its headwaters to the townsite of Tererro, to be administered by the Secretary of Agriculture in the following classifications: (a) The 13.5 mile segment from its headwaters to the Pecos Wilderness boundary, as a wild river; and (b) the 7-mile segment from the Pecos Wilderness boundary to the townsite of Tererro, as a recreational river. The final boundary for the designated segments approximately follows the original corridor boundary of ¼-mile of the ordinary high water mark on each side of the river, with adjustments made in order to follow legal and locatable landlines.

Dated: March 10, 2000.
James T. Gladen,
Deputy Regional Forester.

[FR Doc. 00-7279 Filed 3-23-00; 8:45 am]

BILLING CODE 3410-11-M